DEPARTMENT OF AGRICULTURE

Natural Resources Conservation Service

Task Force on Agricultural Air Quality

AGENCY: Natural Resources Conservation Service (NRCS).

ACTION: Notice of meeting.

SUMMARY: The Task Force on Agricultural Air Quality will meet for the third time in FY 2000. Special emphasis will be placed on obtaining a greater about understanding the relationship between agricultural production and air quality. The meeting is open to the public.

DATES: The meeting will convene Tuesday, July 18, 2000 at 9 a.m. and continue until 4 p.m. The meeting will resume Wednesday, July 19, 2000 from 9 a.m. to 4 p.m. Written material and requests to make oral presentations should reach the Natural Resources Conservation Service, at the address below, on or before July 12, 2000.

ADDRESSES: The meeting will be held at the Hall of States, 444 Capitol Street NW, Rooms 333/335, Washington, DC 20001, telephone (202) 624-8670/fax (202) 624-8588. Written material and requests to make oral presentations should be sent to George Bluhm, University of California, Land, Air, and Water Resources, 151 Hoagland Hall, Davis, CA 95616-6827.

FOR FURTHER INFORMATION CONTACT: Questions or comments should be directed to George Bluhm, Designated Federal Official, telephone (530) 752-1018, fax (530) 752-1552, email bluhm@crocker.ucdavis.edu.

SUPPLEMENTARY INFORMATION: Notice of this meeting is given under the Federal Advisory Committee Act, 5 U.S.C. App. 2. Additional information about the Task Force on Agricultural Air Quality, including any revised agendas for the July 18 and 19, 2000 meeting that occur after this Federal Register Notice is published, may be found on the World Wide Web at http://www.nhq.nrcs.usda.gov/faca/aaqtf.html.

Draft Agenda of the July 18 and 19, 2000 Meeting

A. Welcome to Washington, DC

1. USDA Official

2. EPA Official

B. Approve minutes of the February 15, 17, 2000, AAQTF meeting

C. Subcommittee Reports

1. Confined animals and emission factors

a. Air quality technology transfer white paper for concentrated animal feeding

b. EPA Interim guidance on the CERCLA Sec. 101 (10)h Federally Permitted Release Definition for Certain Air Emissions—(Impact on animal operations)

2. Research priorities and oversight

a. ARS Agricultural Air Quality Research Program

b. ARS/EPA research strategy to improve accuracy of emission forecasting

c. CSREES Agricultural Air Quality Research Program

3. Monitoring and health effects

4. Agricultural burning

5. Voluntary compliance

D. Task Force charter

E. Public input (Time will be reserved before lunch and at the close of each daily session to received public comment. Individual presentations will be limited to 5 minutes)

Procedural

This meeting is open to the public. At the discretion of the Chair, members of the public may present oral presentations during the July 18 and 19, 2000 meeting. Persons wishing to make oral presentations should notify George Bluhm no later than July 12, 2000. If a person submitting material would like a copy distributed to each member of the committee in advance of the meeting, that person should submit 25 copies to George Bluhm no later than July 12, 2000.

Information on Services for Individuals With Disabilities

For information on facilities or services for individuals with disabilities or to request special assistance at the meeting, contact George Bluhm.

Dated: June 15, 2000.
Lawrence E. Clark,
Deputy Chief for Science and Technology, Natural Resources Conservation Service.

[FR Doc. 00-15491 Filed 6-19-00; 8:45 am]

BILLING CODE 3410-16-M